DEPARTMENT OF DEFENSE

[OMB Control Number 0704-0398]

Information Collection Requirement; Defense Federal Acquisition Regulation Supplement; Substitutions for Military or Federal Specifications and Standards

AGENCY: Department of Defense (DoD).

ACTION: Notice and request for comments regarding a proposed extension of an approved information collection requirement.

SUMMARY: In compliance with Section 3506(c)(2)(A) of the Paperwork Reduction Act of 1995 (44 U.S.C. Chapter 35), DoD announces the proposed extension of a public information collection requirement and seeks public comment on the provisions thereof. DoD invites comments on: (a) Whether the proposed collection of information is necessary for the proper performance of the functions of DoD, including whether the information will have practical utility; (b) the accuracy of the estimate of the burden of the proposed information collection; (c) ways to enhance the quality, utility, and clarity of the information to be collected; and (d) ways to minimize the burden of the information collection on respondents, including the use of automated collection techniques or other forms of information technology. The Office of Management and Budget (OMB) has approved this information collection requirement for use through August 31, 2004. DoD proposes that OMB extend its approval for use through August 31, 2007.

DATES: DoD will consider all comments received by June 22, 2004.

ADDRESSES: Respondents may submit comments via the Internet at http://emissary.acq.osd.mil/dar/dfars.nsf/pubcomm. As an alternative, respondents may e-mail comments to: dfars@osd.mil. Please cite OMB Control Number 0704-0398 in the subject line of e-mailed comments.

Respondents that cannot submit comments using either of the above methods may submit comments to: Defense Acquisition Regulations Council, Attn: Ms. Teresa Brooks, OUSD(AT&L)DPAP(DAR), IMD 3C132, 3062 Defense Pentagon, Washington, DC 20301-3062; facsimile (703) 602-0350. Please cite OMB Control Number 0704-0398.

At the end of the comment period, interested parties may view public comments on the Internet at http://emissary.acq.osd.mil/dar/dfars.nsf.

FOR FURTHER INFORMATION CONTACT: Ms. Teresa Brooks, (703) 602-0326. The information collection requirements addressed in this notice are available electronically on the Internet at: http://www.acq.osd.mil/dpap/dfars/index.htm. Paper copies are available from Ms. Teresa Brooks, OUSD(AT&L)DPAP(DAR), IMD 3C132, 3062 Defense Pentagon, Washington, DC 20301-3062.

SUPPLEMENTARY INFORMATION: Title and OMB Number: Defense Federal Acquisition Regulation Supplement (DFARS) Section 211.273, Substitutions for Military or Federal Specifications and Standards, and related clause at DFARS 252.211-7005; OMB Control Number 0704-0398.

Needs and Uses: This information collection permits offerors to propose Single Process Initiative (SPI) processes as alternatives to military or Federal specifications and standards cited in DoD solicitations for previously developed items. DoD uses the information to verify Government acceptance of an SPI process as a valid replacement for a military or Federal specification or standard.

Affected Public: Businesses or other for-profit institutions.

Annual Burden Hours: 20.

Number of Respondents: 10.

Responses Per Respondent: 2.

Annual Responses: 20.

Average Burden Per Response: 1 hour.

Frequency: On occasion.

Summary of Information Collection

The clause at DFARS 252.211-7005, Substitutions for Military or Federal Specifications and Standards, is used in solicitations and contracts for previously developed items. The clause encourages offerors to propose management or manufacturing processes, that have been previously accepted by DoD under the SPI program, as alternatives to military or Federal specifications and standards cited in the solicitation. An offeror proposing to use an SPI process must'

(1) Identify the specific military or Federal specification or standard for which the SPI process has been accepted;

(2) Identify each facility at which the offeror proposes to use the SPI process in lieu of military or Federal specifications or standards cited in the solicitation;

(3) Identify the contract line items, subline items, components, or elements affected by the SPI process; and

(4) If the proposed SPI process has been accepted at the facility at which it is proposed for use, but is not yet listed at the SPI Internet site, submit documentation of DoD acceptance of the SPI process.

Michele P. Peterson,
Executive Editor, Defense Acquisition Regulations Council.

[FR Doc. 04-9266 Filed 4-22-04; 8:45 am]

BILLING CODE 5001-08-P